DEPARTMENT OF COMMERCE

International Trade Administration

[A-570-815]

Sulfanilic Acid From the People's Republic of China: Extension of Time Limit for Final Results of Antidumping Duty Administrative Review

AGENCY: Import Administration, International Trade Administration, Department of Commerce.

ACTION: Notice of extension of time limit for final results of administrative review.

EFFECTIVE DATE: January 10, 2001.

FOR FURTHER INFORMATION CONTACT: Samantha Denenberg or Sean Carey, AD/CVD Enforcement, Import Administration, International Trade Administration, U.S. Department of Commerce, 14th Street and Constitution Avenue, NW., Washington DC 20230; telephone: (202) 482-1386 or (202) 482-3964, respectively.

The Applicable Statute

Unless otherwise indicated, all citations to the statute are references to the provisions effective January 1, 1995, the effective date of the amendments made to the Tariff Act of 1930 (the Act) by the Uruguay Round Agreement Act. In addition, unless otherwise indicated, all citations to the Department's regulations are to the current regulations, codified at 19 CFR part 351 (1999).

Background

On August 31, 1999, the Department of Commerce (the Department) received a request from petitioner, Nation Ford Chemical Company (NFC), to conduct an administrative review on Zhenxing Chemical Company. The Department also received a request for an administrative review on the same day from respondents Zhenxing Chemical Company, Yude Chemical Company, and PHT International, the U.S. importer. On October 1, 1999, the Department published a notice of initiation of an administrative review of the antidumping duty order on sulfanilic acid from the People's Republic of china, covering the period August 1, 1998 through July 31, 1999 (64 FR 53318). On September 14, 2000, the Department published its preliminary results of this administrative review (65 FR 55508).

Extension of Time Limits for Preliminary Results

Because of the complexities enumerated in the Memorandum from Barbara E. Tillman to Joseph A. Spetrini, Extension of Time Limit for the Administrative Review of Sulfanilic Acid from the People's Republic of China, dated January 4, 2001, it is not practical to complete this review within the time limits mandated by section 751(a)(3)(A) of the Act.

Therefore, in accordance with section 751(a)(3)(A) of the Act, the Department is extending the time limit for the final results of review from January 12, 2001 to March 13, 2001.

Dated: January 3, 2001.
Joseph A. Spetrini,
Deputy Assistant Secretary, AD/CVD Enforcement Group III.

[FR Doc. 01-779 Filed 1-9-01; 8:45 am]

BILLING CODE 3510-DS-M